DEPARTMENT OF THE INTERIOR

Bureau of Land Management

[LLNVC0100000 L91310000.EJ0000.LXSIGEOT0000 241A; NVN 087795; 11-08807; MO# 4500021655; TAS: 14X5575]

Notice of Availability of the Final Environmental Impact Statement for the Salt Wells Energy Projects, Churchill County, NV

AGENCY: Bureau of Land Management, Interior.

ACTION: Notice of Availability.

SUMMARY: In accordance with the National Environmental Policy Act of 1969, as amended (NEPA), the Bureau of Land Management (BLM) has prepared a Final Environmental Impact Statement (EIS) for the Salt Wells Energy Projects and by this notice is announcing its availability.

DATES: The BLM will not issue a final decision on the proposal for at least 30 days after the date that the Environmental Protection Agency publishes its Notice of Availability in the Federal Register.

ADDRESSES: Copies of the Salt Wells Energy Projects Final EIS are available in the BLM Carson City District, Stillwater Field Office at 5665 Morgan Mill Road, Carson City, Nevada 89701. The Final EIS is also available online at: http://www.blm.gov/nv/st/en/fo/carson_city_field.html.

FOR FURTHER INFORMATION CONTACT: Colleen Sievers, (775) 885-6000, or e-mail: saltwells_eis@blm.gov. Persons who use a telecommunications device for the deaf (TDD) may call the Federal Information Relay Service (FIRS) at 1-800-877-8339 to contact the above individual during business hours. The FIRS is available 24 hours a day, 7 days a week, to leave a message or question with the above individual. You will receive a reply during normal business hours.

SUPPLEMENTARY INFORMATION: The BLM Stillwater Field Office received separate proposed geothermal utilization plans and applications for facilities construction permits from Vulcan Power Company (Vulcan) and Ormat Technologies, Inc. (Ormat), and an electric transmission right-of-way (ROW) application from Sierra Pacific Power Company (SPPC), for proposed geothermal energy projects covering a combined area of approximately 24,152 acres in the Salt Wells area about 15 miles east of Fallon, Nevada. Vulcan proposes the development of as many as four geothermal power plants and associated facilities. Ormat proposes the development of one geothermal power plant and associated facilities. SPPC proposes 22 miles of above-ground electrical transmission lines, electrical substations, and switching stations. The proposed facilities would be sited on a combination of private property and public land; the public land is managed by the BLM and the U.S. Bureau of Reclamation (BOR). Due to similar timing, geographic area, and type of action, the BLM is analyzing the proposals in one EIS. The BLM will issue three separate Records of Decision, one for each proposed project. The BOR will issue its own Record of Decision for the SPPC transmission line where the line crosses BOR-managed lands. The BOR would grant its own ROW for the power line, but, under the geothermal development regulations (43 CFR 3272.13), the BOR, as surface management agency, would grant its consent to development on lands it manages and the BLM may then issue a decision to approve the development.

The Vulcan project proposal is to construct as many as four 30- to 60-megawatt (MW) binary or dual-flash geothermal power plants and associated facilities at five possible locations for a total net output of 120 MW. Each site includes production and injection wells, pipelines, a substation, interconnection lines to the proposed substation, and access roads. The Vulcan project may require up to 46 geothermal production and injection wells. Twenty of these wells have been analyzed in two previous environmental assessments (EA): Salt Wells Geothermal Drilling EA for Ten Drilling Wells, EA-NV-030-07-05 (February 6, 2007), and Salt Wells Geothermal Exploratory Drilling Program EA for Ten Wells, DOI- BLM-NV-C010-2009-0006-EA (April 24, 2009).

The Ormat project proposal includes the construction and operation of a 40-MW binary combination wet- and air-cooled geothermal power plant, a substation, a switching station, and an associated transmission line between the power plant and switching station. These facilities would be developed on an 80-acre private parcel. Ormat proposes to construct up to 13 well pads with associated pipelines and roads on Federal lands managed by the BOR. The proposed well pads would be in addition to 12 well pads previously analyzed in the Carson Lake Geothermal Exploration Project EA-NV-030-07-006 and authorized by the BLM on July 25, 2008. The BLM is responsible for managing geothermal resources on BOR lands under the regulations found at 43 CFR 3200.

The SPPC proposal includes construction of a new substation, 22 miles of single circuit 230-kilovolt (kV) transmission line, two 230-kV switching stations, and two 60-kV electricity lines.

Analysis through an EIS provides for the orderly development of commercial-scale geothermal power generation facilities, associated infrastructure, and a transmission line in a manner that will protect natural resources and prevent unnecessary or undue degradation to the public lands following NEPA and regulations at 40 CFR 1500 et seq. In accordance with 43 CFR 2800 and 43 CFR 3200, the BLM is authorized to process the applications to construct, operate, and maintain the proposed Salt Wells Energy Projects. Title V of the Federal Land Policy and Management Act (FLPMA) authorizes the Secretary of the Interior (through the BLM) to grant ROWs on public lands for the purposes of generating and transmitting electric energy. These projects are in conformance with the BLM Carson City District Office Consolidated Resource Management Plan (2001).

In addition to the proposed actions, the BLM analyzed the following action alternatives. For the Vulcan project, an alternative switching station and interconnection 230-kV transmission line is proposed should SPPC elect not to build its project. For the Ormat project, the BLM developed an alternative to relocate specific well sites and a portion of a pipeline to maintain consistency with lease stipulations and land use plan decisions to protect riparian vegetation and surface waters within canals. For the SPPC project, 3 alternative routes for the proposed 230-kV transmission line and an alternative examining the construction of an additional fiber optic line to connect communications from Highway 50 are considered to minimize impacts to airspace at the nearby Fallon Naval Air Station. As required under NEPA, the Final EIS analyzes a no-action alternative for each of the proposed projects.

The BLM considered the provisions of the Energy Policy Act of 2005 and Secretarial Orders 3283—“Enhancing Renewable Energy Development on the Public Lands” and 3285A1—“Renewable Energy Development by the Department of the Interior,” in the EIS.

A Notice of Intent to Prepare an EIS for the Salt Wells Energy Projects, Churchill County, Nevada, was published in the Federal Register on September 11, 2009 (74 FR 46787). The BLM held one public scoping meeting in Fallon, Nevada, on October 21, 2009. The formal scoping period ended on November 10, 2009. On January 28, 2011, the BLM published in the Federal Register a Notice of Availability for the Draft EIS for the Salt Wells Energy Projects and initiated a 60-day public comment period (76 FR 5198). A public meeting on the Draft EIS was held in Fallon, Nevada on March 3, 2011. Thirty comment letters were received; the responses are included in the Final EIS. The majority of comments requested minimizing impacts to private landowners or additional analysis of water resources and wildlife. Public comments also identified potential conflicts with the SPPC proposed action and a conservation easement. A cooperating agency meeting was held on April 14, 2011 and through a collaborative process a new alternative was developed that modified Draft EIS Alternative 2 by rerouting about 2 miles of the transmission line. A third SPPC alternative is analyzed and included in the Final EIS.

The BLM has selected a preferred alternative for each project. For the SPPC project, Alternative 3 is the preferred alternative because it was developed through a collaborative process that modified the route to be compatible with surrounding land uses, to minimize impacts to local residents, and to address wildlife concerns. For the Ormat project, Alternative 1 is selected as the preferred alternative to help protect riparian areas and wetlands. For the Vulcan project, the Proposed Action is selected as the preferred alternative.

Authority: 43 CFR parts 2800 and 3200.

Teresa J. Knutson,
Manager, Stillwater Field Office, BLM Carson City District.

[FR Doc. 2011-18331 Filed 7-20-11; 8:45 am]

BILLING CODE 4310-HC-P